DEPARTMENT OF THE INTERIOR

National Park Service

[NPS-WASO-NAGPRA-NPS0030811; PPWOCRADN0-PCU00RP14.R50000]

Notice of Intent To Repatriate Cultural Items: Eastern Washington State Historical Society/Northwest Museum of Art & Culture, Spokane, WA

AGENCY: National Park Service, Interior.

ACTION: Notice.

SUMMARY: The Eastern Washington State Historical Society/Northwest Museum of Art & Culture, in consultation with the appropriate Indian Tribes or Native Hawaiian organizations, has determined that the cultural items listed in this notice meet the definition of either unassociated funerary objects or objects of cultural patrimony. Lineal descendants or representatives of any Indian Tribe or Native Hawaiian organization not identified in this notice that wish to claim these cultural items should submit a written request to the Eastern Washington State Historical Society/Northwest Museum of Art & Culture. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Eastern Washington State Historical Society/Northwest Museum of Art & Culture at the address in this notice by October 26, 2020.

ADDRESSES: Wesley Jessup, Eastern Washington State Historical Society/Northwest Museum of Art & Culture, 2316 West First Avenue, Spokane, WA 99201, telephone (509) 363-5354, email wesley.jessup@northwestmuseum.org.

SUPPLEMENTARY INFORMATION: Notice is here given in accordance with the Native American Graves Protection and Repatriation Act (NAGPRA), 25 U.S.C. 3005, of the intent to repatriate cultural items under the control of the Eastern Washington State Historical Society/Northwest Museum of Art & Culture, Spokane, WA, that meet the definition of either unassociated funerary objects or objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

At an unknown time, 16 cultural items were removed from undetermined locations in Tlingit/Haida aboriginal territory of southeast AK. These objects were collected by various donors and/or their antecedents from the mid-19th century to the late 20th century. The items were donated to the Museum between 1916 and 1992. Eight of the items are unassociated funerary objects. They are one Chilkat blanket (NN95.365), three Shaman objects (MONAC.1971.46; MONAC.1971.44; 703.2), one Armor (HEINE.1978/2), and three Whistles (1070.243; 1070.247; 1070.248). Eight of the items are objects of cultural patrimony. They are one Chilkat blanket (2054.1), one Chilkat apron (YOUNG.1982.1), one Porpoise figure (175.49), one Killer whale hat (STORIE.1981.7), one Woven hat (ND.4986), one Ceremonial shirt (500.88), one Bentwood box (172.22), and one Whale totem (MONAC.1971.34).

In July 2018, six representatives from the Central Council of the Tlingit & Haida Indian Tribes completed a consultation visit to the Eastern Washington State Historical Society/Northwest Museum of Art & Culture's American Indian collection. The representatives from the Central Council of the Tlingit and Haida Indian Tribes provided oral history and documentation showing that the items in this notice are either unassociated funerary objects or objects of cultural patrimony.

Determinations Made by the Eastern Washington State Historical Society/Northwest Museum of Art & Culture

Officials of the Eastern Washington State Historical Society/Northwest Museum of Art & Culture have determined that:

• Pursuant to 25 U.S.C. 3001(3)(B), eight of the items described above are reasonably believed to have been placed with or near individual human remains at the time of death or later as part of the death rite or ceremony and are believed, by a preponderance of the evidence, to have been removed from a specific burial site of a Native American individual.

• Pursuant to 25 U.S.C. 3001(3)(D), eight of the items described above have ongoing historical, traditional, or cultural importance central to the Native American group or culture itself, rather than property owned by an individual.

• Pursuant to 25 U.S.C. 3001(2), there is a relationship of shared group identity that can be reasonably traced between the unassociated funerary objects and objects of cultural patrimony and Central Council of the Tlingit & Haida Indian Tribes.

Additional Requestors and Disposition

Lineal descendants or representatives of any Indian Tribe or Native Hawaiian organization not identified in this notice that wish to claim these cultural items should submit a written request with information in support of the claim to Wesley Jessup, Eastern Washington State Historical Society/Northwest Museum of Art & Culture, 2316 West First Avenue, Spokane, WA 99201, telephone (509) 363-5354, email wesley.jessup@northwestmuseum.org, by October 26, 2020. After that date, if no additional claimants have come forward, transfer of control of the unassociated funerary objects and objects of cultural patrimony to the Central Council of the Tlingit & Haida Indian Tribes may proceed.

The Eastern Washington State Historical Society/Northwest Museum of Art & Culture is responsible for notifying the Central Council of the Tlingit & Haida Indian Tribes that this notice has been published.

Dated: August 24, 2020.
Melanie O'Brien,
Manager, National NAGPRA Program.

[FR Doc. 2020-21082 Filed 9-23-20; 8:45 am]

BILLING CODE 4312-52-P